DEPARTMENT OF HOMELAND SECURITY

Federal Emergency Management Agency

[Docket ID FEMA-2016-0002]

Changes in Flood Hazard Determinations

AGENCY: Federal Emergency Management Agency, DHS.

ACTION: Final Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: October 31, 2016.
Roy E. Wright,
Deputy Associate Administrator for Insurance and Mitigation, Department of Homeland Security, Federal Emergency Management Agency.

State and county | Location and case No. | Chief executive officer of community | Community map repository | Effective date of modification | Community No.
Arizona: Mohave (FEMA Docket No.: B-1640) | City of Lake Havasu (16-09-1124P) | The Honorable Mark S. Nexsen, Mayor, City of Lake Havasu, 2330 McCulloch Boulevard North, Lake Havasu City, AZ 86403 | City Hall, 2330 McCulloch Boulevard North, Lake Havasu City, AZ 86403 | Sep. 15, 2016 | 040116
California:
Los Angeles (FEMA Docket No.: B-1640) | City of Los Angeles (16-09-1177P) | The Honorable Eric Garcetti, Mayor, City of Los Angeles, 200 North Spring Street, Los Angeles, CA 90012 | Department of Public Works, 1149 South Broadway, Suite 700, Los Angeles, CA 90015 | Sep. 30, 2016 | 060137
Los Angeles (FEMA Docket No.: B-1640) | City of Los Angeles (16-09-1249P) | The Honorable Eric Garcetti, Mayor, City of Los Angeles, 200 North Spring Street, Los Angeles, CA 90012 | Department of Public Works, 1149 South Broadway, Suite 700, Los Angeles, CA 90015 | Sep. 28, 2016 | 060137
Idaho: Ada (FEMA Docket No.: B-1633) | Unincorporated Areas of Ada County (15-10-1460P) | Mr. Jim Tibbs, Chairman, Board of County Commissioners, Ada County, 200 West Front Street, 3rd Floor, Boise, ID 83702 | Ada County Courthouse, 200 West Front Street, Boise, ID 83702 | Mar. 9, 2016 | 160001
Illinois:
Cook (FEMA Docket No.: B-1641) | Village of Elmwood Park (15-05-7561P) | The Honorable Angelo Saviano, Village President, Elmwood Park, Elmwood Park Village Hall, 11 Conti Parkway, Elmwood Park, IL 60707 | Village Hall, 11 Conti Parkway, Elmwood Park, IL 60707 | Sep. 28, 2016 | 170089
Cook (FEMA Docket No.: B-1641) | Village of River Grove (15-05-7561P) | The Honorable Marilynn J. May, Village President, Village of River Grove, 2621 North Thatcher Avenue, River Grove, IL 60171 | Village Hall, Administrative Offices, 2621 North Thatcher Avenue, River Grove, IL 60171 | Sep. 28, 2016 | 170152
Douglas (FEMA Docket No.: B-1633) | City of Tuscola (16-05-0749P) | The Honorable Daniel J. Kleiss, Mayor, City of Tuscola, 214 North Main Street, Tuscola, IL 61953 | City Hall, 214 North Main Street, Tuscola, IL 61953 | Aug. 25, 2016 | 170195
Douglas (FEMA Docket No.: B-1633) | Unincorporated Areas of Douglas County (16-05-0749P) | The Honorable Don Munson, Chairman, Douglas, County Board, Douglas County Courthouse, 401 South Center Street, Tuscola, IL 61953 | Douglas County Courthouse, 401 South Center Street, Tuscola, IL 61953 | Aug. 25, 2016 | 170194
Peoria (FEMA Docket No.: B-1633) | City of Peoria (15-05-6957P) | The Honorable Jim Ardis, Mayor, City of Peoria, 419 Fulton Street, Suite 401, Peoria, IL 61602 | Public Works Department, 3505 North Dries Lane, Peoria, IL 61604 | Sept. 16, 2016 | 170536
Will (FEMA Docket No.: B-1641) | City of Joliet (16-05-2519P) | The Honorable Robert O'Dekirk, Mayor, City of Joliet, 150 West Jefferson Street, Joliet, IL 60432 | City Hall, 150 West Jefferson Street, Joliet, IL 60432 | Sept. 16, 2016 | 170702
Iowa:
Franklin (FEMA Docket No.: B-1633) | City of Sheffield (16-07-1093X) | The Honorable Nick Wilson, Mayor, City of Sheffield, City Hall, 110 South 3rd Street, P.O. Box 252, Sheffield, IA 50475 | City Hall, 110 South 3rd Street, Sheffield, IA 50475 | Aug. 26, 2016 | 190132
Polk (FEMA Docket No.: B-1633) | City of Grimes (15-07-2236P) | The Honorable Thomas Armstrong, Mayor, City of Grimes, City Hall, 101 Northeast Harvey Street, Grimes, IA 50111 | City Hall, 101 North East Harvey Street, Grimes, IA 50111 | Aug. 16, 2016 | 190228
Polk (FEMA Docket No.: B-1633) | Unincorporated Areas of Polk County (15-07-2236P) | Mr. Tom Hockensmith, Board of Supervisors, Polk County, Polk County Administration Building, 111 Court Avenue, Suite 300, Des Moines, IA 50309 | Polk County Public, Works, 5885 North East, 14th Street, Des Moines, IA 50313 | Aug. 16, 2016 | 190901
Missouri:
St. Louis (FEMA Docket No.: B-1633) | City of Chesterfield (16-07-0481P) | The Honorable Bob Nation, Mayor, City of Chesterfield, 690 Chesterfield Parkway West, Chesterfield, MO 63017 | City Hall, 690 Chesterfield Parkway West, Chesterfield, MO 63017 | Aug. 19, 2016 | 290896
St. Louis (FEMA Docket No.: B-1633) | City of Wildwood (16-07-0481P) | The Honorable Timothy Woerther, Mayor, City of Wildwood, City Hall, 16860 Main Street, Wildwood, MO 63040 | City Hall, 16860 Main Street, Wildwood, MO 63040 | Aug. 19, 2016 | 290922
Nevada: Clark (FEMA Docket No.: B-1640) | Unincorporated Areas of Clark County (16-09-0249P) | The Honorable Steve Sisolak, Chairman, Board of Supervisors, Clark County, 500 South Grand Central Parkway, 6th Floor, Las Vegas, NV 89106 | Office of the Director of Public Works, 500 South Grand Central Parkway, Las Vegas, NV 89155 | Sep. 22, 2016 | 320003
New Jersey: Passaic (FEMA Docket No.: B-1633) | Borough of Bloomingdale (16-02-0098P) | The Honorable Jonathan Dunleavy, Mayor, Borough of Bloomingdale, 101 Hamburg Turnpike, Bloomingdale, NJ 07403 | Bloomingdale Borough Hall, 101 Hamburg Turnpike, Bloomingdale, NJ 07403 | Aug. 23, 2016 | 345284
New York: Cortland (FEMA Docket No.: B-1626) | Town of Scott (16-02-0318P) | Mr. Kevin Fitch, Town Supervisor, Town of Scott, Town Hall, 6689 NYS Route 41, Homer, NY 13077 | Town Hall, 6689 NYS Route 41, Homer, NY 13077 | Aug. 12, 2016 | 361328
Ohio:
Cuyahoga (FEMA Docket No.: B-1641P) | City of Strongsville (16-05-2288P) | The Honorable Thomas, P. Perciak, Mayor, City of Strongsville, City Hall, 16099 Foltz Parkway, Strongsville, OH 44149 | City Hall, 16099 Foltz Parkway, Strongsville, OH 44149 | Sep. 29, 2016 | 390132
Lucas (FEMA Docket No.: B-1633) | City of Oregon (16-05-1552P) | The Honorable Michael J. Seferian, Mayor, City of Oregon, 5330 Seaman Road, Oregon, OH 43616 | City Hall, 5330 Seaman Road, Oregon, OH 43616 | Sep. 13, 2016 | 390361
Tuscarawas (FEMA Docket No.: B-1633) | Village of Zoar (16-05-2633P) | The Honorable Scott Gordon, Mayor, Village of Zoar, 250 North Main Street, P.O. Box 544, Zoar, OH 44697 | County Administrative Offices, 125 East High Avenue, New Philadelphia, OH 44663 | Sep. 9, 2016 | 390752
Warren (FEMA Docket No.: B-1633) | Unincorporated Areas of Warren County (15-05-6683P) | The Honorable Pat South, Chairperson, Warren County Board of County Commissioners, 406 Justice Drive, 1st Floor, Lebanon, OH 45036 | Warren County Administration Building, 406 Justice Drive, Room 167, Lebanon, OH 45036 | Aug. 29, 2016 | 390757
Oregon:
Jackson (FEMA Docket No.: B-1633) | City of Central Point. (16-10-0502P) | The Honorable Hank Williams, Mayor, City of Central Point, 140 South 3rd Street, Central Point, OR 97502 | City of Central Point, 140 South 3rd Street, Central Point, OR 97502 | Sep. 14, 2016 | 410092
Jackson (FEMA Docket No.: B-1633) | Unincorporated Areas of Jackson County (16-10-0502P) | Mr. Don Skundrick, Jackson County Commissioner, 10 South Oakdale Avenue, Room 100, Medford, OR 97501 | Jackson County Roads, Parks and Planning Services, 10 South Oakdale Avenue, Medford, OR 97501 | Sep. 14, 2016 | 415589
Multnomah (FEMA Docket No.: B-1626) | City of Portland (16-10-0674P) | The Honorable Charlie Hales, Mayor, City of Portland, 1221 Southwest 4th Avenue, Room 340, Portland, OR 97204 | Bureau of Environmental Services, 1221 Southwest 4th Avenue, Room 230, Portland, OR 97204 | Aug. 12, 2016 | 410183
Washington (FEMA Docket No.: B-1626) | City of Beaverton (15-10-1269P) | The Honorable Denny Doyle, Mayor, City of Beaverton, The Beaverton Building, 12725 Southwest Millikan Way, Beaverton, OR 97005 | City Hall Planning & Engineering Department, 12725 Southwest Millikan Way, Beaverton, OR 97005 | Aug. 19, 2016 | 410240
Texas:
Dallas (FEMA Docket No.: B-1633) | City of Grand Prairie (16-06-1079P) | The Honorable Ron Jensen, Mayor, City of Grand Prairie, 317 West College Street, P.O. Box 534045, Grand Prairie, TX 75053 | City Development Center, 206 West Church Street, Grand Prairie, TX 75050 | Sep. 12, 2016 | 485472
Dallas (FEMA Docket No.: B-1633) | City of Irving (16-06-1079P) | The Honorable Beth Van Duyne, Mayor, City of Irving, 825 West Irving Boulevard, Irving, TX 75060 | Public Works Department, 825 West Irving Boulevard, Irving, TX 75060 | Sep. 12, 2016 | 480180
Tarrant (FEMA Docket No.: B-1641) | City of Fort Worth (16-06-1158P) | The Honorable Betsy Price, Mayor, City of Fort Worth, 1000 Throckmorton Street, Fort Worth, TX 76102 | Department of Transportation and Public Works, 1000 Throckmorton Street, Fort Worth, TX 76102 | Sep. 30, 2016 | 480596
Washington: Spokane (FEMA Docket No.: B-1633) | Unincorporated Areas of Spokane County (16-10-0312P) | The Honorable Nancy McLaughlin, County Commissioner, Spokane County, Spokane County Courthouse, 1116 West Broadway Avenue, Spokane, WA 99260 | Public Works Building, 1026 West Broadway Avenue, Spokane, WA 99260 | Aug. 26, 2016 | 530174
Wisconsin:
Dane (FEMA Docket No.: B-1633) | City of Madison (16-05-1781P) | The Honorable Paul R. Soglin, Mayor, City of Madison, Mayor's Office, 210 Martin Luther King Jr. Boulevard, Room 403, Madison, WI 53703 | City Hall, 210 Martin Luther King Jr. Boulevard, Room 403, Madison, WI 53703 | Sep. 14, 2016 | 550083
Dane (FEMA Docket No.: B-1633) | Unincorporated Areas of Dane County (16-05-1781P) | The Honorable Joe Parisi, Dane County Executive, City-County Building, 210 Martin Luther King Jr. Boulevard, Room 421, Madison, WI 53703 | City-County Building, 210 Martin Luther King Jr. Boulevard, Room 116, Madison, WI 53703 | Sep. 14, 2016 | 550077
Milwaukee (FEMA Docket No.: B-1633) | City of Milwaukee (16-05-0269P) | The Honorable Tom Barrett, Mayor, City of Milwaukee, 200 East Wells Street, Room 201, Milwaukee, WI 53202 | City Hall, 200 East Wells Street, Milwaukee, WI 53202 | Sep. 23, 2016 | 550278
Milwaukee (FEMA Docket No.: B-1633) | City of Oak Creek (16-05-0269P) | The Honorable Stephen Scaffidi, Mayor, City of Oak Creek, 8040 South 6th Street, Oak Creek, WI 53154 | City Hall, 8640 South Howell Avenue, Oak Creek, WI 53154 | Sep. 23, 2016 | 550279
Waukesha (FEMA Docket No.: B-1626) | City of Brookfield (16-05-2092P) | The Honorable Steven V. Ponto, Mayor, City of Brookfield, 2000 North Calhoun Road, Brookfield, WI 53005 | City Hall, 2000 North Calhoun Road, Brookfield, WI 53005 | Aug. 12, 2016 | 550478

[FR Doc. 2016-28345 Filed 11-23-16; 8:45 am]

BILLING CODE 9110-12-P